DEPARTMENT OF COMMERCE

[I.D. 122004C]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Weather Modification Activities Reports.

Form Number(s): NOAA Forms 17-4, 17-4A, 17-4B.

OMB Approval Number: 0648-0025.

Type of Request: Regular submission.

Burden Hours: 330.

Number of Respondents: 55.

Average Hours Per Response: 30 minutes for Forms 17-4 and 17-4A; 5 hours for Form 17-4B.

Needs and Uses: The Weather Modification Activities Reports are required by Public Law 92-205, Section 6(b). All entities which engage in weather modification (e.g. cloud-seeding to enhance precipitation or disperse fog) are required to report various data to NOAA. NOAA maintains the data for use in scientific research, historical statistics, international reports, and other purposes.

Affected Public: Business or other for-profit organizations; individuals or households; not-for-profit institutions; Federal government; State, local or tribal government.

Frequency: On occasion, annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: December 17, 2004.
Gwellnar Banks,
Management Analyst, Office of the Chief Information Officer.

[FR Doc. 04-28130 Filed 12-23-04; 8:45 am]

BILLING CODE 3510-KD-S